DEPARTMENT OF LABOR

Employment and Training Administration

[TA-W-85,191]

Soy Basics, LLC, a Wholly-Owned Subsidiary of S.C Johnson & Son, Inc., Including Onsite Leased Workers from Manpower and Labor Ready, New Hampton, Iowa; Amended Certification Regarding Eligibility to Apply for Worker Adjustment Assistance and Alternative Trade Adjustment Assistance

In accordance with Section 223 of the Trade Act of 1974, as amended (“Act”), 19 U.S.C. 2273, the Department of Labor (Department) issued a Certification of Eligibility to Apply for Worker Adjustment Assistance and Alternative Trade Adjustment Assistance on April 29, 2014, applicable to workers and former workers of Soy Basics, LLC, a wholly owned subsidiary of S.C. Johnson & Son, Inc., including on-site leased workers from Manpower, New Hampton, Iowa. The workers are/were engaged in activities related to the production of soy candles.

At the request of a state workforce official, the Department reviewed the certification for workers of the subject firm.

The company reports that workers leased from Labor Ready were employed on-site at the New Hampton, Iowa location of Soy Basics, LLC. The Department has determined that these workers were sufficiently under the control of the subject firm to be considered leased workers.

Based on these findings, the Department is amending this certification to include workers leased from Labor Ready working on-site at Soy Basics, LLC, a wholly owned subsidiary of S.C. Johnson & Son, Inc., New Hampton, Iowa.

The amended notice applicable to TA-W-85,191 is hereby issued as follows:

All workers of Soy Basics, LLC, a wholly owned subsidiary of S.C. Johnson & Son, Inc., including on-site leased workers from Manpower and Labor Ready, New Hampton, Iowa, who became totally or partially separated from employment on or after March 31, 2013 through April 29, 2016, are eligible to apply for adjustment assistance under Chapter 2 of Title II of the Trade Act of 1974, as amended, and are also eligible to apply for alternative trade adjustment assistance under Section 246 of the Trade Act of 1974, as amended.

Signed in Washington, DC this 14th day of May, 2014.
Del Min Amy Chen,
Certifying Officer, Office of Trade Adjustment Assistance.

[FR Doc. 2014-12055 Filed 5-23-14; 8:45 am]

BILLING CODE 4510-FN-P